DEPARTMENT OF HEALTH AND HUMAN SERVICES

Centers for Disease Control and Prevention

Advisory Council for the Elimination of Tuberculosis Meeting (ACET)

In accordance with section 10(a)(2) of the Federal Advisory Committee Act (Pub. L. 92-463), the Centers for Disease Control and Prevention (CDC) announces the following meeting of the aforementioned committee:

Times and Dates: 8:30 a.m.-5:00 p.m., EST, December 12, 2016; 8:30 a.m.-12:00 p.m., EST, December 13, 2016.

Place: Corporate Square, Building 8, 1st Floor Conference Room, Atlanta, Georgia 30329, telephone (404) 639-8317.

This meeting is also accessible by Webinar:

December 12, 2016

For Participants:

URL: https://www.mymeetings.com/nc/join/

Conference number: PW1642870

Audience passcode: 4727233

Participants can join the event directly at: https://www.mymeetings.com/nc/join.php?i=PW1642870&p=4727233&t=c

USA Toll-free +1 (877) 951-7311, Participant code: 4727233

December 13, 2016

For Participants:

URL: https://www.mymeetings.com/nc/join/

Conference number: PW1642897

Audience passcode: 4727233

Participants can join the event directly at: https://www.mymeetings.com/nc/join.php?i=PW1642897&p=4727233&t=c

USA Toll-free +1 (877) 951-7311, Participant code: 4727233

Status: Open to the public, limited only by the space available. The meeting room accommodates approximately 100 people. Persons who desire to make an oral statement, may request it at the time of the public comment period on December 13, 2016 at 11:40 a.m., (EDT). Public participation and ability to comment will be limited to space and time as it permits.

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters for Discussion: Agenda items include the following topics: (1) Recently Published Data on TB in Jails and Prisons in the United States; (2) Expanded Latent TB Infection (LTBI) Testing and Treatment Plans (Massachusetts Demonstration Project); (3) Update on the National Center for HIV/AIDS, Viral Hepatitis, STD and TB Prevention Economic Modeling Agreement (NEEMA) TB Projects; (4) Updates from Workgroups; and (5) other tuberculosis-related issues. Agenda items are subject to change as priorities dictate.

Contact Person for More Information: Margie Scott-Cseh, Centers for Disease Control and Prevention, 1600 Clifton Road NE., M/S E-07, Atlanta, Georgia 30333, telephone (404) 639-8317.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office,Centers for Disease Control and Prevention.

[FR Doc. 2016-27492 Filed 11-15-16; 8:45 am]

BILLING CODE 4163-18-P